DEPARTMENT OF THE INTERIOR

National Park Service

Notice of Inventory Completion: U.S. Department of Defense, Air Force, 15th Airlift Wing, Hickam Air Force Base, HI

AGENCY: National Park Service, Interior.

ACTION: Notice.

Notice is here given in accordance with provisions of the Native American Graves Protection and Repatriation Act (NAGPRA), 25 U.S.C. 3003, of the completion of an inventory of human remains and associated funerary objects under the control of the U.S. Department of Defense, Air Force, 15th Airlift Wing, Hickam Air Force Base, HI. The human remains were removed from the Bellows Air Force Station, Island of O'ahu, HI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the U.S. Army Corps of Engineers, the Bernice Pauahi Bishop Museum (Bishop Museum), Honolulu, HI, and the 15th Airlift Wing, Hickam Air Force Base professional staff in consultation with representatives from Aloha First, Hui Malama I Na Kupuna 'O Hawai'i Nei, Kaiwi Olelo 'O Hawai'i Nei, Nation of Hawai'i, Office of Hawaiian Affairs, Puuhonua 'o Waimanalo, and State of Hawai'i Burial Sites Program.

At an unknown date, between 1955 and November 16, 1990, human remains representing a minimum of 15 individuals were removed from along Bellows Beach on Bellows Air Force Station, Waimanalo ahupua'a, District of Ko'olaupoko, Island of O'ahu, HI, during excavations and as a result of inadvertent finds. No known individuals were identified. The 28 associated funerary objects are 1 gastropod exoskeleton, bone fragments from 6 fish, 1 pig, 1 medium mammal (pig or dog), 1 shark, and 1 bird; 1 kukui nut shell, 2 pieces of waterworn coral, 1 unmodified wood fragment, 4 pieces of basalt lithic debitage, 1 basalt hammerstone, 1 basalt adze, 1 sample of red ochre-colored sand, and 6 samples of unmodified sand.

The human remains and associated funerary objects were placed in the collections Bishop Museum between 1955 and 1990. Prior to November 16, 1990, the Bishop Museum repatriated most of the human remains and associated funerary objects from the Bellows Air Force Station. Between 2001 and 2002, the Bishop Museum reviewed its collections and found additional human remains and associated funerary objects from the Bellows Air Force Station. In 2003, the Bishop Museum transferred the human remains and associated funerary objects, and all other archeological material associated with the 15th Air Wing to the Environmental Planning office at Hickam Air Force Base. Between 2003 and 2005, the U.S. Air Force conducted a second review of the materials returned by the Bishop Museum to search for NAGPRA related materials. This notice describes the human remains and associated funerary objects that were identified from both inventory surveys.

These burials for which a position can be determined were flexed. The burial position is consistent with traditional Hawaiian burial practices. The associated funerary objects, which include shell midden, sediment samples, non-human animal bones, and basalt artifacts are consistent with traditional Hawaiian lithic materials and subsistence practices. Based on the manner of the interments, types of associated funerary objects, recovery location, Land Commission Award records, historic maps and documents, oral history, and archeological investigations, the human remains are likely of Native Hawaiian ancestry.

Officials of the 15th Airlift Wing, Hickam Air Force Base have determined that, pursuant to 25 U.S.C. 3001 (9-10), the human remains described above represent the physical remains of 15 individuals of Native Hawaiian ancestry. Officials of the 15th Airlift Wing, Hickam Air Force Base also have determined that, pursuant to 25 U.S.C. 3001 (3)(A), the 28 objects described above are reasonably believed to have been placed with or near individual human remains at the time of death or later as part of the death rite or ceremony. Lastly, officials of the 15th Airlift Wing, Hickam Air Force Base have determined that, pursuant to 25 U.S.C. 3001(2), there is a relationship of shared group identity that can be reasonably traced between the Native Hawaiian human remains and associated funerary objects and Aloha First, Hui Malama I Na Kupuna 'O Hawai'i Nei, Kaiwi Olelo 'O Hawai'i Nei, Nation of Hawai'i, Office of Hawaiian Affairs, and Puuhonua 'o Waimanalo.

Representatives of any other Native Hawaiian organization that believes itself to be culturally affiliated with the human remains and associated funerary objects should contact Valerie Curtis, Department of the Air Force, 15 CES/CEVP, 75 H Street, Hickam AFB, HI 96853-5233, before April 13, 2006. Repatriation of the human remains and associated funerary objects to Aloha First, Hui Malama I Na Kupuna 'O Hawai'i Nei, Kaiwi Olelo 'O Hawai'i Nei, Nation of Hawai'i, Office of Hawaiian Affairs, and Puuhonua 'o Waimanalo may proceed after that date if no additional claimants come forward.

The 15th Airlift Wing, Hickam Air Force Base is responsible for notifying Aloha First, Hui Malama I Na Kupuna 'O Hawai'i Nei, Kaiwi Olelo 'O Hawai'i Nei, Nation of Hawai'i, Office of Hawaiian Affairs, Puuhonua 'o Waimanalo, and State of Hawai'i Burial Sites Program that this notice has been published.

Dated: February 15, 2006.
C. Timothy McKeown,
Acting Manager, National NAGPRA Program.

[FR Doc. E6-3554 Filed 3-13-06; 8:45 am]

BILLING CODE 4312-50-S